DEPARTMENT OF TRANSPORTATION

Pipeline and Hazardous Materials Safety Administration

Hazardous Materials: Notice of Applications for Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein.

DATES: Comments must be received on or before December 27, 2022.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast, Washington DC or at http://regulations.gov.

This notice of receipt of applications for special permit is published in accordance with part 107 of the Federal hazardous materials transportation law (49 U.S.C. 5117(b); 49 CFR 1.53(b)).

Donald P. Burger,
Chief, General Approvals and Permits Branch.

Application No. | Applicant | Regulation(s) affected | Nature of the special permits thereof
SPECIAL PERMITS DATA
15963-M | Jack Harter Helicopters, Inc. | 172.200, 175.75, 172.300, 172.400, 173.27, 175.30, 175.33, 175.75, 175.1, 175.3, 178.1 | To modify the special permit to authorize 14 CFR Part 135 aircraft, additional hazardous materials, and alternative packagings. (mode 4)
20681-M | Proserv UK Ltd | 172.301(c), 173.302(a)(1), 173.304(a) | To modify the special permit to authorize additional cylinder coatings. (modes 1, 2, 3, 4)
20835-M | Nouryon Functional Chemicals LLC | 178.337-8(a)(3), 178.337-8(a)(4), 178.337-8(a)(5)(i), 178.337-10(f) | To modify the special permit to authorize valves without shear sections and to authorize certain vapor and liquid discharge openings not equipped with excess flow valves. (mode 1)
21139-M | KULR Technology Corporation | 172.600, 172.200, 172.300, 172.700(a), 172.400, 172.500, 173.185(b) | To modify the special permit to authorize ferry and cargo vessel, to authorize additional hazardous materials, and to increase the gross weight of the package. (modes 1, 2, 3,)

[FR Doc. 2022-26812 Filed 12-8-22; 8:45 am]

BILLING CODE P